DEPARTMENT OF THE INTERIOR

National Park Service

[NPS-WASO-NAGPRA-NPS0035188; PPWOCRADN0-PCU00RP14.R50000]

Notice of Inventory Completion: Field Museum of Natural History, Chicago, IL

AGENCY: National Park Service, Interior.

ACTION: Notice.

SUMMARY: In accordance with the Native American Graves Protection and Repatriation Act (NAGPRA), the Field Museum of Natural History has completed an inventory of human remains and has determined that there is no cultural affiliation between the human remains and any Indian Tribe. The human remains were removed from unknown location(s).

DATES: Disposition of the human remains in this notice may occur on or after March 1, 2023.

ADDRESSES: Helen Robbins, Repatriation Director, Field Museum of Natural History, 1400 S Lake Shore Drive, Chicago, IL 60605-2496, telephone (312) 665-7317, email hrobbins@fieldmuseum.org.

SUPPLEMENTARY INFORMATION: This notice is published as part of the National Park Service's administrative responsibilities under NAGPRA. The determinations in this notice are the sole responsibility of the Field Museum. The National Park Service is not responsible for the determinations in this notice. Additional information on the determinations in this notice, including the results of consultation, can be found in the inventory or related records held by the Field Museum.

Description

Human remains representing, at minimum, four individuals were removed from unknown location(s). According to Museum records, these human remains consisting of four crania were part of a group of eighteen unaccessioned individuals that had been stored in a box labeled “Sun Dance, Arapaho.” The Museum contends, based on institutional history and collections practices, that the box was likely used previously for a collection of Sun Dance materials, which did not include human remains, without being re-labeled. Some time prior to 1985, catalog cards were prepared for the eighteen individuals, identifying them as “Arapaho?”. During a 1985-87 inventory, 12 of the 18 individuals were identified as Basketmaker from San Juan County, Utah, and as coming to the Museum as part of the Lang Collection from the University of Chicago's Walker Museum. The other six individuals could not be identified. The Museum determined these human remains to be culturally unidentifiable due to a lack of information. The Northern Arapaho Tribe's position is that the Museum's records were, at some point, sufficient for the Museum to conclude that the requested human remains were possibly Arapaho, and that there is no extant contrary evidence sufficient to overturn this initial conclusion. The fact that there is no present evidence could simply be the result, in the Tribe's view, that the evidence establishing these remains as Arapaho previously simply didn't survive. Accordingly, the Northern Arapaho Tribe has requested repatriation of four of these individuals. No associated funerary objects are present.

Aboriginal Land

The human remains in this notice were removed from unknown geographic location(s). The evidence from the Field Museum's records indicates that the human remains may have come from either accession 694 (Arapaho materials from Wind River Reservation, Wyoming), accession 777 (Sun Dance, Arapaho materials from the Cheyenne-Arapaho Reservation, Oklahoma), or accession 1468 (Basketmaker material from San Juan County, Utah).

Determinations

Pursuant to NAGPRA and its implementing regulations, and after consultation with the appropriate Indian Tribes, the Field Museum has determined that:

• The human remains described in this notice represent the physical remains of four individuals of Native American ancestry.

• No relationship of shared group identity can be reasonably traced between the human remains and any Indian Tribe.

• The human remains described in this notice may have been removed from the aboriginal land of Big Pine Band Paiute Tribe of the Owens Valley; Burns Paiute Tribe; Chemehuevi Indian Tribe of the Chemehuevi Reservation, California; Cheyenne and Arapaho Tribes, Oklahoma; Colorado River Indian Tribes of the Colorado River Indian Reservation, Arizona and California; Confederated Tribes of the Goshute Reservation, Nevada and Utah; Fort Independence Indian Community of Paiute Indians of the Fort Independence Reservation, California; Fort McDermitt Paiute and Shoshone Tribes of the Fort McDermitt Indian Reservation, Nevada and Oregon; Hopi Tribe of Arizona; Kaibab Band of Paiute Indians of the Kaibab Indian Reservation, Arizona; Las Vegas Tribe of Paiute Indians of the Las Vegas Indian Colony, Nevada; Lovelock Paiute Tribe of the Lovelock Indian Colony, Nevada; Moapa Band of Paiute Indians of the Moapa River Indian Reservation, Nevada; Northern Arapaho Tribe of the Wind River Reservation, Wyoming; Ohkay Owingeh, New Mexico; Paiute Indian Tribe of Utah (Cedar Band of Paiutes, Kanosh Band of Paiutes, Koosharem Band of Paiutes, Indian Peaks Band of Paiutes, and Shivwits Band of Paiutes); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Pyramid Lake Paiute Tribe of the Pyramid Lake Reservation, Nevada; San Juan Southern Paiute Tribe of Arizona; Santo Domingo Pueblo; Shoshone-Bannock Tribes of the Fort Hall Reservation; Shoshone-Paiute Tribes of the Duck Valley Reservation, Nevada; Southern Ute Indian Tribe of the Southern Ute Reservation, Colorado; Summit Lake Paiute Tribe of Nevada; Ute Indian Tribe of the Uintah & Ouray Reservation, Utah; Ute Mountain Ute Tribe; Utu Utu Gwaitu Paiute Tribe of the Benton Paiute Reservation, California; Walker River Paiute Tribe of the Walker River Reservation, Nevada; Yerington Paiute Tribe of the Yerington Colony & Campbell Ranch, Nevada; Ysleta del Sur Pueblo; and the Zuni Tribe of the Zuni Reservation, New Mexico.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after March 1, 2023. If competing requests for disposition are received, the Field Museum must determine the most appropriate requestor prior to disposition. Requests for joint disposition of the human remains are considered a single request and not competing requests. The Field Museum is responsible for sending a copy of this notice to the Indian Tribes identified in this notice.

Authority: Native American Graves Protection and Repatriation Act, 25 U.S.C. 3003, and the implementing regulations, 43 CFR 10.9 and § 10.11.

Dated: January 18, 2023.
Melanie O'Brien,
Manager, National NAGPRA Program.

[FR Doc. 2023-01840 Filed 1-27-23; 8:45 am]

BILLING CODE 4312-52-P